DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Date of modification | Community No.
Arizona:
Maricopa (FEMA Docket No.: B-2365). | City of Glendale (22-09-1673P). | The Honorable Jerry Weiers, Mayor, City of Glendale, 5850 West Glendale Avenue, Suite 451, Glendale, AZ 85301. | City Hall, 5850 West Glendale Avenue, Glendale, AZ 85301. | Nov. 24, 2023 | 040045
Maricopa (FEMA Docket No.: B-2373). | City of Glendale (23-09-0431P). | The Honorable Jerry Weiers, Mayor, City of Glendale, 5850 West Glendale Avenue, Suite 451, Glendale, AZ 85301. | City Hall, 5850 West Glendale Avenue, Glendale, AZ 85338. | Dec. 8, 2023 | 040045
Maricopa (FEMA Docket No.: B-2373). | City of Goodyear (23-09-0431P). | The Honorable Joe Pizzillo, Mayor, City of Goodyear, 1900 North Civic Square, Goodyear, AZ 85395. | Engineering Department, 14455 West Van Buren Street, Suite D101, Goodyear, AZ 85338. | Dec. 8, 2023 | 040046
Maricopa (FEMA Docket No.: B-2373). | City of Surprise (22-09-1771P). | The Honorable Skip Hall, Mayor, City of Surprise, 16000 North Civic Center Plaza, Surprise, AZ 85374. | Public Works Department, Engineering Development Services, 16000 North Civic Center Plaza, Surprise, AZ 85374. | Dec. 22, 2023 | 040053
Maricopa (FEMA Docket No.: B-2365). | Unincorporated Areas of Maricopa County (22-09-1673P). | The Honorable Clint L. Hickman, Chair, Board of Supervisors, Maricopa County, 301 West Jefferson Street, 10th Floor, Phoenix, AZ 85003. | Flood Control District of Maricopa County, 2801 West Durango Street, Glendale, AZ 85301. | Nov. 24, 2023 | 040037
Maricopa (FEMA Docket No.: B-2373). | Unincorporated Areas of Maricopa County (22-09-1771P). | The Honorable Clint L. Hickman, Chair, Board of Supervisors, Maricopa County, 301 West Jefferson Street, 10th Floor, Phoenix, AZ 85003. | Flood Control District of Maricopa County, 2801 West Durango Street, Phoenix, AZ 85009. | Dec. 22, 2023 | 040037
Maricopa (FEMA Docket No.: B-2373). | Unincorporated Areas of Maricopa County (23-09-0431P). | The Honorable Clint L. Hickman, Chair, Board of Supervisors, Maricopa County, 301 West Jefferson Street, 10th Floor, Phoenix, AZ 85003. | Flood Control District of Maricopa County, 2801 West Durango Street, Phoenix, AZ 85009. | Dec. 8, 2023 | 040037
Yuma (FEMA Docket No.: B-2365). | Town of Wellton (22-09-1369P). | The Honorable Scott Blitz, Mayor, Town of Wellton, 28634 Oakland Avenue, Wellton, AZ 85356. | Town Hall, 28634 Oakland Avenue, Wellton, AZ 85356. | Dec. 6, 2023 | 040112
Arkansas:
Benton (FEMA Docket No.: B-2365). | City of Lowell (22-06-2961P). | The Honorable Chris Moore, Mayor, City of Lowell, 216 North Lincoln Street, Lowell, AR 72745. | City Hall, 216 North Lincoln Street, Lowell, AR 72745. | Nov. 2, 2023 | 050342
Benton (FEMA Docket No.: B-2365). | City of Springdale (22-06-2961P). | The Honorable Doug Sprouse, Mayor, City of Springdale, 201 Spring Street, Springdale, AR 72764. | City Hall, 201 Spring Street Springdale, AR 72764. | Nov. 2, 2023 | 050219
California:
Fresno (FEMA Docket No.: B-2373). | City of Clovis (22-09-0533P). | The Honorable Lynne Ashbeck, Mayor, City of Clovis, 1033 5th Street, Clovis, CA 93612. | City Clerk's Office, Civic Center, 1033 5th Street, Clovis, CA 93612. | Dec. 28, 2023 | 060044
Orange (FEMA Docket No.: B-2365). | City of San Juan Capistrano (23-09-0982X). | The Honorable Howard Hart, Mayor, City of San Juan Capistrano, 30448 Rancho Viejo Road, San Juan Capistrano, CA 92675. | City Hall, 32400 Paseo Adelanto, San Juan Capistrano, CA 92675. | Nov. 17, 2023 | 060231
Placer (FEMA Docket No.: B-2373). | Unincorporated Areas of Placer County (23-09-0551P). | The Honorable Jim Holmes, Chair, Board of Supervisors, Placer County, 175 Fulweiler Avenue, Auburn, CA 95603. | Placer County Public Works, 3091 County Center Drive, Suite 220, Auburn, CA 95603. | Dec. 22, 2023 | 060239
Riverside (FEMA Docket No.: B-2365). | City of Corona (22-09-1531P). | The Honorable Tony Daddario, Mayor, City of Corona, 400 South Vicentia Avenue, Corona, CA 92882. | City Hall, 400 South Vicentia Avenue, Corona, CA 92882. | Dec. 6, 2023 | 060250
Riverside (FEMA Docket No.: B-2365). | City of Corona (23-09-0461P). | The Honorable Tony Daddario, Mayor, City of Corona, 400 South Vicentia Avenue, Corona, CA 92882. | City Hall, 400 South Vicentia Avenue, Corona, CA 92882. | Nov. 9, 2023 | 060250
Riverside (FEMA Docket No.: B-2373). | City of Hemet (23-09-0353P). | The Honorable Joe Males, Mayor, City of Hemet, 445 East Florida Avenue, Hemet, CA 92543. | Engineering Department, 510 East Florida Avenue, Hemet, CA 92543. | Dec. 14, 2023 | 060253
Riverside (FEMA Docket No.: B-2365). | City of Riverside (22-09-1386P). | The Honorable Patricia Lock Dawson, Mayor, City of Riverside, 3900 Main Street, Riverside, CA 92522. | Public Works Department, 3900 Main Street, 4th Floor, Riverside, CA 92522. | Dec. 6, 2023 | 060260
Riverside (FEMA Docket No.: B-2365). | City of Riverside (23-09-0172P). | The Honorable Patricia Lock Dawson, Mayor, City of Riverside, 3900 Main Street, Riverside, CA 92522. | Public Works Department, 3900 Main Street, 4th Floor, Riverside, CA 92522. | Nov. 14, 2023 | 060260
Riverside (FEMA Docket No.: B-2373). | Unincorporated Areas of Riverside County (22-09-1127P). | The Honorable Kevin Jeffries, Chair, Board of Supervisors, Riverside County, 4080 Lemon Street, 5th Floor, Riverside, CA 92501. | Riverside County, Flood Control and Water Conservation District, 1995 Market Street, Riverside, CA 92501. | Jan. 11, 2024 | 060245
Riverside (FEMA Docket No.: B-2365). | Unincorporated Areas of Riverside County, (22-09-1531P). | The Honorable Kevin Jeffries, Chair, Board of Supervisors, Riverside County, 4080 Lemon Street, 5th Floor, Riverside, CA 92501. | Riverside County, Flood Control and Water Conservation District, 1995 Market Street, Riverside, CA 92501. | Dec. 6, 2023 | 060245
Riverside (FEMA Docket No.: B-2365). | Unincorporated Areas of Riverside County (23-09-0172P). | The Honorable Kevin Jeffries, Chair, Board of Supervisors, Riverside County, 4080 Lemon Street, 5th Floor, Riverside, CA 92522. | Riverside County Flood Control and Water Conservation District, 1995 Market Street, Riverside, CA 92501. | Nov. 14, 2023 | 060245
Riverside (FEMA Docket No.: B-2373). | Unincorporated Areas of Riverside County (23-09-0353P). | The Honorable Kevin Jeffries, Chair, Board of Supervisors, Riverside County, 4080 Lemon Street, 5th Floor, Riverside, CA 92501. | Riverside County, Flood Control and Water Conservation District, 1995 Market Street, Riverside, CA 92501. | Dec. 14, 2023 | 060245
San Diego (FEMA Docket No.: B-2373). | Unincorporated Areas of San Diego County (22-09-0129P). | The Honorable Nora Vargas, Chair, Board of Supervisors, San Diego County, 1600 Pacific Highway Room 335, San Diego, CA 92101. | San Diego County Flood Control District, Department of Public Works, 5510 Overland Avenue Suite 410, San Diego, CA 92123. | Dec. 27, 2023 | 060284
San Joaquin (FEMA Docket No.: B-2365). | Unincorporated Areas of San Joaquin County (23-09-0364P). | The Honorable Robert Rickman, Chair, Board of Supervisors, San Joaquin County, 44 North San Joaquin Street, Suite 627, Stockton, CA 95202. | San Joaquin County, Public Works Department, 1810 East Hazelton Avenue, Stockton, CA 95205. | Nov. 9, 2023 | 060299
Florida:
Duval (FEMA Docket No.: B-2373). | City of Jacksonville (23-04-2806P). | The Honorable Lenny Curry, Mayor, City of Jacksonville, Mayor's Office, 117 West Duval Street Suite 400, Jacksonville FL 32202. | Edward Ball Building Development Services, 214 North Hogan Street, Room 2100, Jacksonville, FL 32202. | Dec. 14, 2023 | 120077
St. Johns (FEMA Docket No.: B-2373). | Unincorporated Areas of St. Johns County (23-04-0792P). | Henry Dean, Commissioner, District 5, St. Johns County, 500 San Sebastian View, St. Augustine, FL 32084. | St. Johns County Permit Center, 4040 Lewis Speedway, St. Johns County, FL 32084. | Dec. 14, 2023 | 125147
St. Johns (FEMA Docket No.: B-2373). | Unincorporated Areas of St. Johns County (23-04-0824P). | Henry Dean, Commissioner, District 5, St. Johns County, 500 San Sebastian View, St. Augustine, FL 32084. | St. Johns County Permit Center, 4040 Lewis Speedway, St. Augustine, FL 32084. | Dec. 19, 2023 | 125147
Walton (FEMA Docket No.: B-2365). | City of Freeport (22-04-4474P). | The Honorable Russ Barley, Mayor, City of Freeport, 112 Highway 20 West Freeport, FL 32439. | City Hall, 112 Highway 20 West, Freeport, FL 32439. | Nov. 9, 2023 | 120319
Walton (FEMA Docket No.: B-2365). | Unincorporated Areas of Walton County (22-04-4474P). | Danny Glidewell, District 2 Commissioner-Chair, Walton County, 76 North 6th Street, DeFuniak Springs, FL 32433. | Walton County Planning and Development Services Department, 31 Coastal Centre Boulevard, Santa Rosa Beach, FL 32459. | Nov. 9, 2023 | 120317
Hawaii: Maui (FEMA Docket No.: B-2365). | Maui County (22-09-0588P). | The Honorable Richard T. Bissen, Jr., Mayor, County of Maui, 200 South High Street, Kalana O Maui Building 9th Floor, Wailuku, HI 96793. | County of Maui Planning Department, One Main Plaza, 2200 Main Street, Suite 315, Wailuku, HI 96793. | Nov. 29, 2023 | 150003
Illinois:
DuPage (FEMA Docket No.: B-2373). | City of Naperville (22-05-2659P). | The Honorable Scott A. Wehrli, Mayor, City of Naperville, Municipal Center, 400 South Eagle Street, Naperville, IL 60540. | Municipal Center, 400 South Eagle Street, Naperville, IL 60540. | Jan. 8, 2024 | 170213
DuPage (FEMA Docket No.: B-2373). | Unincorporated Areas of DuPage County (22-05-2659P). | Deborah Conroy, Chair, DuPage County Board, 421 North County Farm Road, Wheaton, IL 60187. | DuPage County Administration Building, Stormwater Management, 421 North County Farm Road, Wheaton, IL 60187. | Jan. 8, 2024 | 170197
Will (FEMA Docket No.: B-2373). | City of Joliet (23-05-1511P). | The Honorable Terry D'Arcy, Mayor, City of Joliet, 150 West Jefferson Street, Joliet, IL 60432. | City Hall, 150 West Jefferson Street, Joliet, IL 60432. | Jan. 2, 2024 | 170702
Will (FEMA Docket No.: B-2373). | Village of Plainfield (23-05-0385P). | John Argoudelis, Village President, Village of Plainfield, 24401 West Lockport Street, Plainfield, IL 60544. | Village Hall, 24401 West Lockport Street, Plainfield, IL 60544. | Jan. 8, 2024 | 170771
Minnesota:
Carver (FEMA Docket No.: B-2365). | City of Waconia (22-05-1488P). | The Honorable Nicole Warden, Mayor, City of Waconia, 201 South Vine Street, Waconia, MN 55387. | City Call, 201 South Vine Street, Waconia, MN 55387. | Nov. 24, 2023 | 270055
Carver (FEMA Docket No.: B-2365). | Unincorporated Areas of Carver County (22-05-1488P). | John P. Fahey, Chair, Carver County Board of County Commissioners, 211 Park Place, Norwood Young America, MN 55368. | Carver County Public Health and Environment, 600 East 4th Street, Chaska, MN 55318. | Nov. 24, 2023 | 270049
Missouri:
Jackson (FEMA Docket No.: B-2373). | City of Kansas City (23-07-0053P). | The Honorable Quinton Lucas, Mayor, City of Kansas City, 414 East 12th Street, 29th Floor, Kansas City, MO 64106. | Federal Office Building, 911 Walnut Street, Kansas City, MO 64106. | Dec. 13, 2023 | 290173
St. Charles (FEMA Docket No.: B-2373). | City of Cottleville (22-07-0821P). | The Honorable Bob Ronkoski, Mayor, City of Cottleville, 5490 5th Street, Cottleville, MO 63304. | City Hall, 5490 5th Street, Cottleville, MO 63304. | Sep. 22, 2023 | 290898
St. Charles (FEMA Docket No.: B-2373). | City of O'Fallon (22-07-0821P). | The Honorable Bill Hennessy, Mayor, City of O'Fallon, 100 North Main Street, O'Fallon, MO 63366. | City Hall, 100 North Main Street, O'Fallon, MO 63366. | Sep. 22, 2023 | 290316
St. Charles (FEMA Docket No.: B-2373). | Unincorporated Areas of St. Charles County (22-07-0821P). | Steve Ehlmann, County Executive, St. Charles County, 100 North 2nd Street Suite 318, St. Charles, MO 63301. | St. Charles County Administration Building, 201 North 2nd Street, Suite 420, St. Charles, MO 63301. | Sep. 22, 2023 | 290315
New York:
Suffolk (FEMA Docket No.: B-2365). | Town of Southampton (23-02-0078P). | Jay Schneiderman, Town Supervisor, Town of Southampton, 116 Hampton Road, Southampton, NY 11968. | Town Hall, 116 Hampton Road, Southampton, NY 11968. | Dec. 21, 2023 | 365342
Suffolk (FEMA Docket No.: B-2365). | Village of Westhampton Beach (23-02-0078P). | The Honorable Gary Vegliante, Mayor, Village of Westhampton, 165 Mill Road, Westhampton Beach, NY 11978. | Village Hall, 165 Mill Road, Westhampton Beach, NY 11978. | Dec. 21, 2023 | 365345
Ohio:
Butler (FEMA Docket No.: B-2365). | Unincorporated Areas of Butler County (22-05-1307P). | T.C. Rogers, President, Butler County Board of Commissioners, Government Services Center, 315 High Street, 6th Floor, Hamilton, OH 45011. | Butler County Administrator Center, Building and Zoning Department, 130 High Street, 1st Floor, Hamilton, OH 45011. | Nov. 27, 2023 | 390037
Franklin (FEMA Docket No.: B-2365). | Unincorporated Areas of Franklin County (22-05-1492P). | John O'Grady, Commissioner, Franklin County Board of Commissioners, 373 South High Street 26th Floor, Columbus, OH 43215. | Franklin County, Development Department, 280 East Broad Street, Columbus, OH 43215. | Dec. 5, 2023 | 390167
Franklin (FEMA Docket No.: B-2365). | Village of Canal Winchester (22-05-1492P). | The Honorable Michael Ebert, Mayor, Village of Canal Winchester, Municipal Building, 45 East Waterloo Street, Canal Winchester, OH 43110. | Planning and Zoning, 36 South High Street, Canal Winchester, OH 43110. | Dec. 5, 2023 | 390169
Oregon: Multnomah (FEMA Docket No.: B-2373). | City of Gresham (23-10-0228P). | The Honorable Travis Stovall, Mayor, City of Gresham, City Hall, 1333 Northwest Eastman Parkway, 3rd Floor, Gresham, OR 97030. | City Hall, 1333 Northwest Eastman Parkway, Gresham, OR 97030. | Dec. 28, 2023 | 410181
Texas:
Dallas (FEMA Docket No.: B-2365). | City of Grand Prairie (22-06-0112P). | The Honorable Ron Jensen, Mayor, City of Grand Prairie, 300 West Main Street, Grand Prairie, TX 75053. | City Development Center, 206 West Church Street, Grand Prairie, TX 75050. | Nov. 22, 2023 | 485472
Dallas (FEMA Docket No.: B-2365). | City of Irving (22-06-0112P). | The Honorable Rick Stopfer, Mayor, City of Irving, City Hall, 825 West Irving Boulevard, Irving, TX 75060. | Capital Improvement Program Department, 825 West Irving Boulevard, Irving, TX 75060. | Nov. 22, 2023 | 480180
Tarrant (FEMA Docket No.: B-2365). | City of Arlington (22-06-2179P). | The Honorable Jim Ross, Mayor, City of Arlington, P.O. Box 90231, Arlington, TX 76004. | City Hall, 101 West Abram Street, Arlington, TX 76010. | Nov. 6, 2023 | 485454
Tarrant (FEMA Docket No.: B-2365). | City of Fort Worth (23-06-1016X). | The Honorable Mattie Parker, Mayor, City of Fort Worth, 200 Texas Street, Fort Worth, TX 76102. | Department of Transportation and Public Works, 1000 Throckmorton Street, Fort Worth, TX 76102. | Oct. 23, 2023 | 480596
Tarrant (FEMA Docket No.: B-2365). | City of Haltom City (21-06-2662P). | The Honorable An Truong, Mayor, City of Haltom City, City Hall, 5024 Broadway Avenue, Haltom City, TX 76117. | City Hall, 5024 Broadway Avenue, Haltom City, TX 76117. | Nov. 22, 2023 | 480599
Tarrant (FEMA Docket No.: B-2365). | City of North Richland Hills (21-06-2662P). | The Honorable Oscar Trevino, Jr., Mayor, City of North Richland Hills, City Hall, P.O. Box 820609, North Richland Hills, TX 76182. | City Hall, 4301 City Point Drive, North Richland Hills, TX 76180. | Nov. 22, 2023 | 480607
Virginia:
Roanoke (FEMA Docket No.: B-2373). | City of Roanoke (23-03-0152P). | The Honorable Sherman P. Lea, Sr., Mayor, City of Roanoke, Noel C. Taylor Municipal Building, 215 Church Avenue, Roanoke, VA 24011. | Engineering Department, Noel C. Taylor Municipal Building, 215 Church Avenue, Roanoke, VA 24011. | Dec. 22, 2023 | 510130
Roanoke (FEMA Docket No.: B-2373). | City of Salem (23-03-0152P). | The Honorable Renee Turk, Mayor, City of Salem, 114 North Broad Street, Salem, VA 24153. | Office of the Building Official, 1238 West Main Street, Salem, VA 24153. | Dec. 22, 2023 | 510141
Roanoke (FEMA Docket No.: B-2373). | Town of Vinton (23-03-0152P). | The Honorable Bradley E. Grose, Mayor, Town of Vinton, 311 South Pollard Street, Vinton, VA 24179. | Planning and Zoning Department, 311 South Pollard Street, Vinton, VA 24179. | Dec. 22, 2023 | 510131
Roanoke (FEMA Docket No.: B-2373). | Unincorporated Areas of Roanoke County (23-03-0152P). | Martha B. Hooker, Chair, Roanoke County Board of Supervisors, P.O. Box 29800, Roanoke, VA 24018. | Roanoke County Community Development, 5204 Bernard Drive Southwest, Roanoke, VA 24018. | Dec. 22, 2023 | 510190
Washington:
Kittitas (FEMA Docket No.: B-2365). | City of Cle Elum (21-10-1313P). | The Honorable Jay McGowan, Mayor, City of Cle Elum, 119 West 1st Street, Cle Elum, WA 98922. | City Hall, 119 West 1st Street, Cle Elum, WA 98922. | Dec. 8, 2023 | 530096
Kittitas (FEMA Docket No.: B-2365). | City of Roslyn (21-10-1313P). | The Honorable Brent Hals, Mayor, City of Roslyn, P.O. Box 451, Roslyn, WA 98941. | City Hall, 201 South 1st Street, Roslyn, WA 98941. | Dec. 8, 2023 | 530299
Kittitas (FEMA Docket No.: B-2365). | Unincorporated Areas of Kittitas County (21-10-1313P). | Cory Wright, Commissioner, Kittitas County Board of Commissioners, 205 West 5th Avenue Suite 108, Ellensburg, WA 98926. | Kittitas County, Department of Public Works, 411 North Ruby Street, Suite 1, Ellensburg, WA 98926. | Dec. 8, 2023 | 530095
Wisconsin:
Outagamie (FEMA Docket No.: B-2373). | City of Kaukauna (22-05-2660P). | The Honorable Anthony Penterman, Mayor, City of Kaukauna, 144 West 2nd Street, Kaukauna, WI 54130. | City Hall, 201 West 2nd Street, Kaukauna, WI 54130. | Jan. 4, 2024 | 550305
Outagamie (FEMA Docket No.: B-2373). | Unincorporated Areas of Outagamie County (22-05-2660P). | Thomas Nelson, Executive, Outagamie County, County Building, 410 South Walnut Street, Appleton, WI 54911. | Outagamie County Building, 410 South Walnut Street, Appleton, WI 54911. | Jan. 4, 2024 | 550302

[FR Doc. 2024-03262 Filed 2-15-24; 8:45 am]

BILLING CODE 9110-12-P